DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 35936, dated June 14, 2013) is amended to reflect the establishment of the Field Support Branch, Division of Reproductive Health, National Center for Chronic Disease Prevention and Health Promotion, Centers for Disease Control and Prevention.

After the mission statement for the Women's Health and Fertility Branch (CUCJE), Division of Reproductive Health (CUCJ), insert the following:

Field Support Branch (CUCJG). (1) Assists domestic and international health agencies in health services management, health services research, and translation of findings by providing technical assistance, including training, analytical assistance, and consultation; (2) builds epidemiology capacity in state, tribal, and urban maternal and child health organizations; (3) partners with states, tribes, local and national maternal and child health organizations, and federal agencies to improve maternal and child health; (4) collaborates with other training programs both inside and outside of CDC on reproductive, maternal and child health such as CDC's Epidemic Intelligence Service, Field Epidemiology Training Program, and Council of State and Territorial Epidemiologists; and (5) serves as the CDC lead for technical assistance and expertise in demographic analytical techniques for evaluating reproductive, maternal, infant and perinatal health.

Dated: September 13, 2013.
Sherri Berger,
Chief Operating Officer, Centers for Disease Control and Prevention (CDC).

[FR Doc. 2013-22908 Filed 9-20-13; 8:45 am]

BILLING CODE 4163-18-M